DEPARTMENT OF COMMERCE

Foreign-Trade Zones Board

Order No. 1482

Grant of Authority for Subzone Status, E.I. du Pont de Nemours and Company, Inc., (Crop Protection Products), Valdosta, Georgia Area

Pursuant to its authority under the Foreign-Trade Zones Act of June 18, 1934, as amended (19 U.S.C. 81a-81u), the Foreign-Trade Zones Board (the Board) adopts the following Order:

WHEREAS, the Foreign-Trade Zones Act provides for “ . . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

WHEREAS, the Board's regulations (15 CFR Part 400) provide for the establishment of special-purpose subzones when existing zone facilities cannot serve the specific use involved, and when the activity results in a significant public benefit and is in the public interest;

WHEREAS, Brunswick Foreign-Trade Zone, Inc., grantee of Foreign-Trade Zone 144, has made application to the Board for authority to establish special-purpose subzone status at the manufacturing facilities (crop protection products) of E.I. du Pont de Nemours and Company, Inc., located in the Valdosta, Georgia area (FTZ Docket 15-2006, filed 4/27/2006);

WHEREAS, notice inviting public comment has been given in the Federal Register (71 FR 26321, 5/4/2006); and,

WHEREAS, the Board adopts the findings and recommendations of the examiner's report, and finds that the requirements of the FTZ Act and the Board's regulations will be satisfied, and that approval of the application will be in the public interest;

NOW, THEREFORE, the Board hereby grants authority for subzone status for activity related to crop protection products at the manufacturing facilities of E.I. du Pont de Nemours and Company, Inc. (Subzone 144A), as described in the application and Federal Register notice, and subject to the FTZ Act and the Board's regulations, including Section 400.28.

Signed at Washington, DC, this 6th day of October 2006.

David M. Spooner,
Assistant Secretary of Commerce for Import Administration,Alternate Chairman Foreign-Trade Zones Board.
Attest:
Pierre V. Duy,
Acting Executive Secretary.

[FR Doc. E6-17268 Filed 10-16-06; 8:45 am]

BILLING CODE 3510-DS-S